COMMITTEE FOR PURCHASE FROM PEOPLE WHO ARE BLIND OR SEVERELY DISABLED

Procurement List; Proposed Deletions

AGENCY: Committee for Purchase From People Who Are Blind or Severely Disabled.

ACTION: Proposed deletions from the procurement list.

SUMMARY: The Committee is proposing to delete products from the Procurement List that was previously furnished by nonprofit agencies employing persons who are blind or have other severe disabilities.

DATES: Comments Must Be Received on or Before: 3/26/2017.

ADDRESSES: Committee for Purchase From People Who Are Blind or Severely Disabled, 1401 S. Clark Street, Suite 715, Arlington, Virginia 22202-4149.

FOR FURTHER INFORMATION OR TO SUBMIT COMMENTS CONTACT: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products are proposed for deletion from the Procurement List:

Products

NSN(s)—Product Name(s):

7510-01-545-3762—DAYMAX System, 2016, Calendar Pad, Type I

7510-01-545-3787—DAYMAX System, 2016, Calendar Pad, Type II

Mandatory Source(s) of Supply: Anthony Wayne Rehabilitation Center for Handicapped and Blind, Inc., Fort Wayne, IN

Contracting Activity: General Services Administration, New York, NY

NSN(s)—Product Name(s):

PSIN 01249A-Replaced—Tray Marker

PSIN 01249B-Replaced—Tray Marker

PSIN 01249C-Replaced—Tray Marker

PSIN 01249D-Replaced—Tray Marker

PSIN 01249E-Replaced—Tray Marker

PSIN 01249F-Replaced—Tray Marker

PSIN 01250A-Replaced—Tray Marker

PSIN 01250B-Replaced—Tray Marker

PSIN 01250C-Replaced—Tray Marker

PSIN 01250D-Replaced—Tray Marker

PSIN 01250E-Replaced—Tray Marker

PSIN 01250F-Replaced—Tray Marker

PSIN 1251A-Replaced—Tray Marker

PSIN 1251B-Replaced—Tray Marker

PSIN 1251C-Replaced—Tray Marker

PSIN 1251D-Replaced—Tray Marker

PSIN 1251E-Replaced—Tray Marker

PSIN 1251F-Replaced—Tray Marker

PSIN 1251G-Replaced—Tray Marker

Mandatory Source(s) of Supply: Brooke Industries, Inc., Fond du Lac, WI

Contracting Activity: USPS Vehicles & Delivery and Industrial Equipment CMC

NSN(s)—Product Name(s):

8465-00-521-3057F—Case, Belt Weather Kit

8465-00-521-3057—Case, Belt Weather Kit

Mandatory Source(s) of Supply: Habilitation Center for the Handicapped, Inc., Boca Raton, FL

Contracting Activities: General Services Administration, Fort Worth, TX

Defense Logistics Agency Troop Support

Amy B. Jensen,
Director, Business Operations.

[FR Doc. 2017-03643 Filed 2-23-17; 8:45 am]

BILLING CODE 6353-01-P